DEPARTMENT OF JUSTICE

Antitrust Division

Notice Pursuant to the National Cooperative Research and Production Act of 1993— National Armaments Consortium

Notice is hereby given that, on August 26, 2015, pursuant to Section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, Applied Thin Films, Inc., Skokie, IL; General Electric Company, Niskayuna, NY; HART Technologies, Inc., Manassas, VA; InnoSense, LLC, Torrance, CA; International Dynamics Corp. (IDC), Clermont, FL; Iridium Satellite, LLC, McLean, VA; Marvin Engineering Co., Inc., Huntsville, AL; Montana Tech of the University of Montana, Butte, MT; Phoenix Nuclear Labs, Monona, WA; Polymer Aging Concepts, Inc., Dahlonega, GA; SI2 Technologies, Inc., N. Billerica, MA; T.E.A.M., Inc., Woonsocket, RI; Texas Research Institute—Austin, Inc., Austin, TX; The Samraksh Company, Dublin, OH; Torch Technologies, Inc., Huntsville, AL; University of Miami, Coral Gables, FL; University of Pittsburgh, Pittsburgh, PA; UTRON Kinetics, LLC, Manassas, VA; Weibel Equipment, Inc., Leesburg, VA have been added as parties to this venture.

No other changes have been made in either the membership or planned activity of the group research project. Membership in this group research project remains open, and NAC intends to file additional written notifications disclosing all changes in membership.

On May 2, 2000, NAC filed its original notification pursuant to Section 6(a) of the Act. The Department of Justice published a notice in the Federal Register pursuant to Section 6(b) of the Act on June 30, 2000 (65 FR 40693).

The last notification was filed with the Department on May 28, 2015. A notice was published in the Federal Register pursuant to Section 6(b) of the Act on June 25, 2015 (80 FR 36577).

Patricia A. Brink,
Director of Civil Enforcement, Antitrust Division.

[FR Doc. 2015-24529 Filed 9-25-15; 8:45 am]

BILLING CODE P